FEDERAL COMMUNICATIONS COMMISSION

47 CFR Part 64

[CG Docket Nos. 11-116 and 09-158; CC Docket No. 98-170; FCC 12-42]

Empowering Consumers To Prevent and Detect Billing for Unauthorized Charges (“Cramming”); Consumer Information and Disclosure; Truth-in-Billing Format

AGENCY: Federal Communications Commission.

ACTION: Final rule; correction.

SUMMARY: In this document, the Federal Communications Commission (FCC) is correcting a final rule that appeared in the Federal Register of May 24, 2012. This document corrects rules adopted to help consumers prevent and detect the placement of unauthorized charges on their telephone bills, an unlawful and fraudulent practice commonly referred to as “cramming.”

DATES: This correction contains modified information collection requirements that have not been approved by the Office of Management and Budget (OMB). The Commission will publish a separate document in the Federal Register announcing the effective date of this correction.

FOR FURTHER INFORMATION CONTACT: Melissa Conway, Melissa.Conway@fcc.gov or (202) 418-2887, of the Consumer and Governmental Affairs Bureau.

SUPPLEMENTARY INFORMATION: This document makes the following correction to the final rule published May 24, 2012, at 77 FR 30915:

§ 64.2401 [Corrected].

1. On page 30919, in the third column, in § 64.2401, revise paragraph (f) to read as follows:

(f) Blocking of third-party charges. (1) Carriers that offer subscribers the option to block third-party charges from appearing on telephone bills must clearly and conspicuously notify subscribers of this option at the point of sale and on each carrier's Web site.

(2) Carriers that offer subscribers the option to block third-party charges from appearing on telephone bills must clearly and conspicuously notify subscribers of this option on each telephone bill.

Federal Communications Commission.
Bulah P. Wheeler,
Associate Secretary, Office of the Secretary, Office of Managing Director.

[FR Doc. 2012-28760 Filed 11-29-12; 8:45 am]

BILLING CODE 6712-01-P